DEPARTMENT OF HOUSING AND URBAN DEVELOPMENT

[Docket No. FR-4548-FA-02]

Announcement of Funding Awards for the Indian Community Development Block Grant Program for Fiscal Year 2000

AGENCY: Office of the Assistant Secretary for Public and Indian Housing, HUD.

ACTION: Announcement of funding awards.

SUMMARY: In accordance with section 102(a)(4)(C) of the Department of Housing and Urban Development Reform Act of 1989, this announcement notifies the public of funding decisions made by the Department in a competition for funding under the Fiscal Year 2000 Notice of Funding Availability (NOFA) for the Indian Community Development Block Grant (ICDBG) Program. This announcement contains the consolidated names and addresses of the award recipients under the ICDBG.

FOR FURTHER INFORMATION CONTACT: For questions concerning the Indian Community Development Block Grant Program awards, contact the Area Office of Native American Programs serving your area or Jackie Kruszek, Office of Native Programs, Denver Program Office, 1999 Broadway, Suite 3390, Denver, CO 80202, telephone (303) 675-1600 (this is not a toll-free number). Hearing or speech-impaired individuals may access this number via TTY by calling the toll-free Federal Information Relay Service at 1-800-877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The ICDBG Program assistance made available in this notice is authorized by Title I, Housing and Community Development Act of 1974, as amended (42 U.S.C. 5301, et seq.); 24 CFR part 1003; Departments of Veterans Affairs and Housing and Urban Development, and Independent Agencies Appropriations Act, 2000 (Public Law 106-74 113 Stat. 1047, approved October 20, 1999); and Departments of Veterans Affairs and Housing and Urban Development, and Independent Agencies Appropriations Act, 1999 (Public Law 105-276, 112 Stat. 2461, approved October 21, 1998).

The FY 2000 awards announced in this Notice were selected for funding in a competition announced in a NOFA published in the Federal Register on March 10, 2000 (65 FR 13192). Applications were scored and selected for funding based on the selection criteria in that NOFA and Area Office of Native American Programs (ONAPs) geographic jurisdictional competitions.

The amount appropriated in FY 2000 to fund the ICDBG was $67 million. Two million dollars of this amount was retained to fund imminent threat grants in FY 2000. Including $338,300 in unused funds from the amount reserved by the Assistant Secretary in FY 1999 for imminent threat grants, a total to $65,338,300 were available to fund single purpose ICDBG grants. The allocations for the Area ONAP geographic jurisdictions are as follows:

Eastern/Woodlands—$5,169,533

Southern Plains—12,233,734

Northern Plains—10,318,714

Southwest—28,148,676

Northwest—3,942,513

Alaska—5,525,130

Total—65,338,300

(The Catalog of Federal Domestic Assistance number for the ICDBG Program is 14.862.)

In accordance with section 102(a)(4)(C) of the Department of Housing and Urban Development Reform Act of 1989 (103 Stat. 1987, 42 U.S.C. 3545), the Department is publishing the names, addresses, and amounts of the 105 awards made under the various regional competitions in Appendix A to this document.

Dated: December 6, 2000.
Milan Ordinec,
Acting General Deputy Assistant, Secretary for Public and Indian Housing.

Appendix A_Fiscal Year 2000 Indian Community Development Block Grant Recipients of Funding Decisions

Funding recipient | Amount approved
EASTERN/WOODLANDS ONAP
Aroostook Band of Micmac Indians, P.O. Box 772, Presque Isle, ME 04769 | $120,000
Bad River Band of Lake Superior Tribe of Chippewa Indians, P.O. Box 39, Odanah, WI 54861 | 500,000
Bois Forte Reservation, P.O. Box 16, Nett Lake, MN 55772 | 500,000
Eastern Band of Cherokee Indians, P.O. Box 455, Cherokee, NC 28719 | 500,000
Ho-Chunk Nation, Wisconsin Winnebago, W9814 Airport Road, P.O. Box 667, Black River Falls, WI 54615 | 500,000
Keweenaw Bay Indian Community, 107 Beartown Road, Baraga, MI 49908 | 438,478
Little River Band of Ottawa, 1762 S. US 31, Minstee, MI 49660 | 500,000
Mille Lacs Band of Ojibwe, Minnesota Chippewa Tribe, HCR 67, Box 194, Onamia, MN 56359 | 500,000
Penobscot Indian Nation, 6 River Road, Indian Island, Old Town, ME 04468 | 500,000
St Regis Mohawk Tribe, 412 State Route 37, Hogansburg, NY 13655 | 500,000
Upper Sioux Indian Community, P.O. Box 147, Granite Falls, MN 56241 | 475,000
SOUTHERN PLAINS ONAP
Absentee-Shawnee Tribe of Oklahoma, 2025 South Gordon Cooper Drive, Shawnee, OK 74801 | 750,000
Cherokee Nation of Oklahoma, P.O. Box 948, Tahlequah, OK 74465 | 750,000
Chickasaw Nation, P.O. Box 1548, Ada, OK 74821 | 750,000
Choctaw Nation of Oklahoma, Drawer 1210, Durant, OK 74702 | 750,000
Citizen Potawatomi Nation, 1601 S. Gordon Cooper Drive, Shawnee, OK 74801 | 688,910
Comanche Indian Tribe, P.O. Box 908, Lawton, OK 73502 | 652,277
Coushatta Tribe of Louisiana, P.O. Box 818, Elton, LA 70532 | 750,000
Delaware Tribe of Western Oklahoma, P.O. Box 825, Anadarko, OK 73005 | 722,826
Iowa Tribe of Kansas and Nebraska, RR1, Box 58A, White Cloud, KS 66094 | 375,000
Iowa Tribe of Oklahoma, RR 1 Box 721, Perkins, OK 74059 | 750,000
Kaw Nation, Drawer 50, Kaw City, OK 74641 | 525,625
Miami Tribe of Oklahoma, P.O. Box 1326, Miami, OK 74355 | 750,000
Osage Nation of Oklahoma, 627 Grandview, Pawhuska, OK 74056 | 137,500
Pawnee Nation of Oklahoma, P.O. Box 470, Pawnee, OK 74058 | 750,000
Sac and Fox Nation of Oklahoma, Route 2, Box 246, Stround, OK 74079 | 750,000
Seminole Nation, P.O. Box 1498, Wewoka, OK 74884 | 750,000
United Keetoowah Band of Cherokee Indians, P.O. Box 746, Tahlequah, OK 74465-0746 | 749,998
Wichita and Affiliated Tribes, P.O. Box 729, Anadarko, OK 73005 | 732,420
Northern Plains ONAP
Chippewa Cree Tribe, P.O. Box 544, Box Elder, MT 59521 | 800,000
Crow Creek Sioux Tribe, P.O. Box 50, Fort Thompson, SD 57339 | 800,000
Eastern Shoshone Tribe, P.O. Box 538, Fort Washakia, WY 82514 | 800,000
Northwest Band of Shoshoni Nation, 108 East Forest, Brigham City, UT 84302 | 650,000
Northern Arapaho Tribe, P.O. Box 396, Fort Washakie, WY 82514 | 800,000
Oglala Lakota Sioux Tribe, P.O. Box H, Pine Ridge, SD 57770 | 800,000
Ponca Tribe of Nebraska, 2602 J Street, Omaha, NE 68107 | 350,000
Rosebud Sioux Tribe, P.O. Box 430, Rosebud, SD 57570 | 800,000
Confederated Salish & Kootenai Tribes, P.O. Box 278, Pablo, MT 59855 | 800,000
Sisseton-Wahpeton Sioux Tribe, P.O. Box 509, Agency Village, SD 57262 | 800,000
Three Affiliated Tribes of the Fort Berthoid Reservation, HC 3, Box 2, New Town, ND 58763 | 800,000
Turtle Mountain Band of Chippewa Tribe, P.O. Box 900, Belcourt, ND 58316 | 500,000
Ute Mountain Ute Tribe, P.O. Box 248, Towaoc, CO 81334 | 800,000
Yankton Sioux Tribe, P.O. Box 248, Marty, SD 57361 | 800,000
Southwest ONAP
k-Chin Indian Reservation, 42507 E. Peters & Nall Rd, Maricopa, AZ 852391 | 550,000
Big Valley Rancheria, 2726 Mission Rancheria Dr., Lakeport, CA 95455 | 550,000
Chemehuevi Indian Tribe, P.O. Box 1976, Chemehuevi Valley, CA 92363 | 550,000
Cloverdale Rancheria, 555 S. Cloverdale Blvd. Ste 1, Cloverdale, CA 95425 | 550,000
Cold Springs Rancheria, PO Box 209, Tollhouse, CA 93667 | 550,000
Colusa Rancheria, 50 Wintun Roads, Ste. D, Colusa, CA 95932 | 550,000
Coyote Valley Rancheria, PO Box 39, Redwood Valley, CA 95470 | 135,000
Dry Creek Ranhcheria, PO Box 607, Geyserville, CA 95441 | 550,000
Duckwater Shoshone Paiute, PO Box 140068, Duckwater, NV 89314-0068 | 493,489
Fort Bidwell Indian Reservation, PO Box 129, Fort Bidwell, CA 96112 | 258,560
Fort Independence Indian Reservation, PO Box 67, Independence, CA 93526 | 550,000
Fort Mojave Indian Reservation, 500 Merriman Avenue, Needles, CA 92363 | 550,000
Guidiville Rancheria, PO Box 339, Talmage, CA 95481 | 550,000
Havasupai Indian Tribe, PO Box 10, Supai, AZ 86435 | 550,000
Haulapai Indian Tribe, PO Box 179, Peach Springs, AZ 86434 | 750,000
Kaibab-Paiute Tribe, H.C. 65, Box #2, Fredonia, AZ 86022 | 550,000
Karuk Indian Tribe, PO Box 1016, Happy Camp, CA 96039 | 550,000
Laytonville Rancheria, P.O. Box 1239, Laytonville, CA 95454 | 325,761
Los Coyotes Indian Reservation, P.O. Box 189, Warner Springs, CA 92086 | 550,000
Lytton Rancheria, 1250 Coddington Center, #1, Santa Rosa, CA 95401 | 550,000
Nambe Pueblo Reservation, Rt. 1 Box 117-BB, Santa Fe, NM 87501 | 550,000
Navajo Nation, PO Box 9000, Window Rock, AZ 86515 | 550,000
Pauma Band of Mission Indian, PO Box 369, Pauma Valley, CA 92061 | 524,960
Pit River Indian Tribe, 37014 Main Street, Burney, CA 96013 | 473,947
Pojoaque Pueblo, Route 22, Box 71 Santa Fe, NM 87501 | 550,000
Potter Valley Rancheria, 915 S. Dora Street, Ukiah, CA 95482 | 511,195
Pueblo of Zuni, P.O. Box 339, Zuni, NM 87327 | 2,000,000
Quartz Valley Rancheria, P.O. Box 24, Fort Jones, CA 96032 | 550,000
Redding Rancheria, 2000 Rancheria Road, Redding, CA 96001 | 550,000
Redwood Valley Rancheria, 3250 Road I, Redwood Valley, CA 95470 | 498,328
Robinson Rancheria, 1545 E. Highway 20, Nice, CA 95464 | 549,905
Rohnerville Rancheria, 32 Bear River Drive, Loleta, CA 95551 | 549,968
Round Valley Indian Reservation, P.O. Box 448, Covelo, CA 95428 | 550,000
Salt River Indian Community, 10005 E. Osborn, Scottsdale, AZ 85256 | 1,997,135
Shingle Springs Rancheria, P.O. Box 1340, Shingle Springs, CA 95682 | 502,960
Stewarts Point Rancheria, 1410-C Guerneville Rd, Ste 4, Santa Rosa, CA 95403-4107 | 550,000
Torres-Martinez Indian Reservation, P.O. Box 1160, Thermal, CA 92274 | 550,000
Tule River Indian Reservation, P.O. Box 589, Porterville, CA 93258 | 550,000
Yavapai Apache Nation, P.O. Box 1188, Camp Verde, AZ 86322 | 550,000
Yomba Shoshone Tribe, HC 61, Box 6275, Austin, NV 89310-9301 | 549,904
Yurok Tribal Council, 1034 Sixth Street, Eureka, CA 95501 | 550,000
Northwest ONAP
Coeur D'Alene, P.O. Box 408, Plummer, ID 83851 | 350,000
Coquille Tribe, P.O. Box 783, Coos Bay, OR 97420 | 348,818
Fort Hall, P.O. Box 306, Fort Hall, ID 83203 | 350,000
Jamestown S'Klallam Tribe, 1033 Old Blyn Highway, Sequim, WA 98382 | 348,055
Lummi Tribe, 2828 Kwina Road, Bellingham, WA 98226 | 350,000
Nez Perce Tribe of Idaho, P.O. Box 365, Lapwai, ID 83540 | 230,372
Nisqually, 4820 She-Nah-Num Drive, SE, Olympia, WA 98503 | 267,000
Shoalwater Bay Tribe, P.O. Box 130, Tokeland, WA 98590 | 299,000
Siletz, P.O. Box 549, Siletz, OR 97380 | 350,000
Skokomish, N. 80 Tribal Center Road, Shelton, WA 98584 | 350,000
Spokane, P.O. Box 100, Wellpinit, WA 99040 | 350,000
Umatilla, P.O. Box 638, Pendleton, OR 97801 | 350,000
Alaska ONAP
Akiachak Native Community, P.O. Box 70, Akiachak, AK 99551 | 500,000
Native Village of Kongiganak, P.O. Box 5069, Kongiganak, AK 99559 | 500,000
Native Village of Kotlik, P.O. Box 20210, Kotlik, AK 99620 | 500,000
Nenana native Association, P.O. Box 356, Nenana, AK 99760 | 494,928
Native Village of Nightmute, P.O. Box 90021, Nightmute, AK 99690 | 499,487
Nikolai Village Council, P.O. Box 9145, Nikolai, AK 99691 | 500,000
Orutsaramuit Native Council, P.O. Box 927, Bethel, AK 99559 | 495,619
Native Village of Port Graham, P.O. Box 5510, Port Graham, AK 99603 | 479,236
Native Village of St. Michael, P.O. Box 50, St. Michael, AK 99659 | 500,000
Native Village of Stevens Village, P.O. Box 74016, Stevens Village, AK 99774 | 500,000
Tuluksak Native Community (IRA), P.O. Box 195, Tuluksak, AK 99679 | 500,000

[FR Doc. 00-31686 Filed 12-12-00; 8:45 am]

BILLING CODE 4210-33-M